DEPARTMENT OF HEALTH AND HUMAN SERVICES

National Institutes of Health

Center for Scientific Review; Amended Notice of Meeting

Notice is hereby given of a change in the meeting of the Tumor Progression and Metastasis Study Section, October 17, 2013, 8 a.m. to October 18, 2013, 5 p.m., Embassy Suites, 900, 10th Street NW., Washington, DC which was published in the Federal Register on September 23, 2013, 78 FR 58324.

The meeting will start on December 18, 2013 at 8 a.m. and end on December 19, 2013 at 12 pm. The meeting location remains the same. The meeting is closed to the public.

Dated: November 6, 2013.
Carolyn A. Baum,
Program Analyst, Office of Federal Advisory Committee Policy.

[FR Doc. 2013-30198 Filed 12-16-13; 4:15 pm]

BILLING CODE 4140-01-P